DEPARTMENT OF THE TREASURY

Submission for OMB Review; Comment Request

July 12, 2007.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before August 20, 2007 to be assured of consideration.

Internal Revenue Service (IRS)

OMB Number: 1545-2063.

Type of Review: Extension.

Title: Notice 2007-19 (NOT-103443-07) Statute of Limitations on Assessment Concerning Certain Individuals Filing Income Tax Returns with the USVI.

Description: This notice provides interim guidance, pending the issuance of regulations, concerning the statute of limitations on assessment for the U.S. income tax liability. If any, of U.S. citizens or resident aliens claiming to be bona fide residents of the U.S. Virgin Islands (USVI). In addition, notice provides new information reporting rules for certain taxpayers claiming to be bona fide residents of the USVI.

Respondents: Individuals or Households.

Estimated Total Burden Hours: 42,500 hours.

OMB Number: 1545-1597.

Type of Review: Extension.

Title: Revenue Procedure 2000-12, Application Procedures for Qualified Intermediary Status Under Section 1441; Final Qualified Intermediary Withholding Agreement.

Description: Revenue Procedure 2000-12 describes application procedures for becoming a qualified intermediary and the requisite agreement that a qualified intermediary must execute with the IRS. The information will be used by the IRS to ensure compliance with the U.S. withholding system under the 1441 regulations (especially proper entitlement to treaty benefits).

Respondents: Businesses and other or-profits.

Estimated Total Burden Hours: 301,108 hours.

OMB Number: 1545-1600.

Type of Review: Extension.

Title: REG-251703-96 (Final) Residence of Trusts and Estates-7701.

Description: Section 1161 of the Taxpayer Relief Act of 1997, Pub. L. No. 105-34, 111 Stat. 788 (1997), provides that a trust that was in existence on August 20, 1996 (other than a trust treated as owned by the grantor under subpart E of part I of subchapter J of chapter 1 of the Internal Revenue Code of 1986) and that was treated as a United States person on August 19, 1996, may elect to continue to be treated as a United States person notwithstanding § 7701(a)(30)(E) of the Code. The election will require the Internal Revenue Service to collect information. This regulation provides the procedure and requirements for making the election to remain a domestic trust.

Respondents: Individuals or households.

Estimated Total Burden Hours: 114 hours.

OMB Number: 1545-1331.

Type of Review: Extension.

Title: PS-55-89 (Final) General Asset Accounts Under the Accelerated Cost Recovery System.

Description: The regulations describe the time and manner of making the election described in IRC Section 168(i)(4). Basic information regarding this election is necessary to monitor compliance with the rules in the IRC Section 168.

Respondents: Businesses and other for-profits.

Estimated Total Burden Hours: 250 hours.

OMB Number: 1545-0190.

Type of Review: Revision.

Title: (MA)—Real Estate Lending and Appraisals—12 CFR 34.

Description: The information collections are required by statute to regulate real estate lending and holding by national banks. These regulations are required by statute and are used by the OCC to ensure the safe and sound operation of national banks and bank compliance. National banks are the affected public.

Respondents: Businesses and other for-profits.

Estimated Total Burden Hours: 102,650 hours.

OMB Number: 1545-0105.

Type of Review: Extension.

Title: CRA Sunshine.

Description: These information collections are required under section 711 of the Gramm-Leach-Bliley Act, Public Law No. 106-102. This section requires certain agreements that are in fulfillment of the Community Reinvestment Act of 1977 to be disclosed to the public and the appropriate Federal banking agencies. This section also institutes an annual reporting requirement to the agencies concerning these agreements. These requirements apply to insured depository institutions and their affiliates, as well as nongovernmental entities or persons that enter into covered agreements with such entities.

Respondents: Businesses and other for-profits.

Estimated Total Burden Hours: 1,416 hours.

OMB Number: 1545-1413.

Type of Review: Extension.

Title: IA-30-95 (Final) Reporting on Nonpayroll Withheld Tax Liabilities

Description: These regulations concern the Secretary's authority to require a return of tax under section 6011 and provide for the requirement of a return by persons deducting and withholding income tax from “Nonpayroll” payments.

Respondents: Businesses and other for-profits.

Estimated Total Burden Hours: 1 hours.

OMB Number: 1545-1265.

Type of Review: Extension.

Title: IA-120-86 (Final) Capitalization of Interest.

Description: The regulations require taxpayers to maintain contemporaneous written records of estimates, to file a ruling request to segregate activities in applying the interest capitalization rules, and to request the consent of the Commissioner to change their methods of accounting for the capitalization of interest.

Respondents: Individuals and households.

Estimated Total Burden Hours: 116,767 hours.

OMB Number: 1545-2062.

Type of Review: Extension.

Title: Reconciliation of Schedule M-3 Taxable Income with Tax Return Taxable Income for Mixed Groups.

Form: 8962.

Description: The Form 8916 reconciles taxable income per the Schedule M-3 for the Forms 1120, 1120-L, or 1120-PC with the taxable income on mixed groups filing Form 1120, 1120-L, or 1120-PC. This is necessary because certain special adjustments are required to match taxable income of mixed groups as reported on the Schedule M-3 with taxable income they report on Forms 1120, 1120-L, or 1120-PC.

Respondents: Businesses or other for-profit institutions.

Estimated Total Burden Hours: 3,385 hours.

OMB Number: 1545-1893.

Type of Review: Extension.

Title: REG-150562-03 (NPRM) section 1045 Application to Partnerships.

Description: The collection of information is in § 1.1045-1(b)(4)(ii). Any partner who recognizes all or a part of the partner's distributive share of partnership section 1045 gain must notify the partnership of the amount of the partnership section 1045 gain that is recognized. This information will be used by the partnership to make necessary adjustments to the basis of the replacement qualified small business stock.

Respondents: Individuals or households.

Estimated Total Burden Hours: 1,000 hours.

OMB Number: 1545-0796.

Type of Review: Extension.

Title: Office of Chief Counsel-Application.

Form: 6524.

Description: The Chief Counsel Application form provides data we deem critical for evaluating an attorney applicant's qualifications such as LSAT score, bar admission status, type of work preference, law school, class standing. OF-306 does not provide this information.

Respondents: Individuals or households.

Estimated Total Burden Hours: 900 hours.

OMB Number: 1545-1153.

Type of Review: Extension.

Title: PS-73-89 (TD 8370) (Final) Excise Tax on Chemicals That Deplete the Ozone Layer and on Products Containing Such Chemicals.

Description: Section 4681 imposes a tax on ozone-depleting chemicals sold or used by a manufacturer or importer thereof and imported taxable products sold or used by an importer thereof. A floor stocks tax is also imposed. This regulation provides reporting and recordkeeping rules.

Respondents: Businesses or other for-profit institutions.

Estimated Total Burden Hours: 75,142 hour.

OMB Number: 1545-0814.

Type of Review: Extension.

Title: EE-44-78 (Final) Cooperative Hospital Service Organizations.

Description: This regulation establishes the rules for cooperative hospital service organizations which seek tax-exempt status under section 501(e) of the Internal Revenue Code. Such an organization must keep records in order to show its cooperative nature and to establish compliance with other requirements in section 501(c).

Respondents: Not-for-profit institutions.

Estimated Total Burden Hours: 1 hour.

OMB Number: 1545-0997.

Type of Review: Extension.

Title: Proceeds From Real Estate Transactions.

Form: 1099-S.

Description: Form 1099-S is used by the real estate reporting person to report proceeds from a real estate transaction to the IRS.

Respondents: Businesses or other for-profit institutions.

Estimated Total Burden Hours: 510,465 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

1

[FR Doc. E7-13996 Filed 7-18-07; 8:45 am]

BILLING CODE 4830-01-P